DEPARTMENT OF TRANSPORTATION

Federal Aviation Administration

14 CFR Part 39

[Docket No. 2000-NM-338-AD]

RIN 2120-AA64

Airworthiness Directives; Airbus Model A319, A320, and A321 Series Airplanes

AGENCY: Federal Aviation Administration, DOT.

ACTION: Notice of proposed rulemaking (NPRM).

SUMMARY: This document proposes the supersedure of two existing airworthiness directives (AD), applicable to certain Airbus Model A319, A320, and A321 series airplanes. The first AD currently requires removing the existing forward pintle nut and cross bolt on the main landing gear (MLG), and installing a new nylon spacer and cross bolt and nut. The second AD currently requires repetitive inspections for discrepancies of the lock bolt for the pintle pin on the MLG, follow-on corrective actions if necessary, and retorquing of the forward pintle pin lock bolt for certain airplanes. That AD also provides for an optional terminating action. This action would cancel the requirements of the first AD, continue the requirements of the second AD, and require the previously optional terminating action that was provided for in the second AD. This proposal is prompted by issuance of mandatory continuing airworthiness information by a foreign civil airworthiness authority. The actions specified by the proposed AD are intended to prevent a rotated, damaged, or missing lock bolt, which could result in disengagement of the pintle pin from the pintle fitting bearing, and consequent collapse of the MLG during landing.

DATES: Comments must be received by December 24, 2001.

ADDRESSES: Submit comments in triplicate to the Federal Aviation Administration (FAA), Transport Airplane Directorate, ANM-114, Attention: Rules Docket No. 2000-NM-338-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-338-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-338-AD.” The postcard will be date stamped and returned to the commenter.

Availability of NPRMs

Any person may obtain a copy of this NPRM by submitting a request to the FAA, Transport Airplane Directorate, ANM-114, Attention: Rules Docket No. 2000-NM-338-AD, 1601 Lind Avenue, SW., Renton, Washington 98055-4056.

Discussion

On May 9, 1996, the FAA issued AD 96-10-18, amendment 39-9625 (61 FR 24690, May 16, 1996), applicable to certain Airbus Model A320-111, -211, -212, and -231 series airplanes, to require removing the existing forward pintle nut and cross bolt on the main landing gear (MLG) and installing a new nylon spacer and cross bolt and nut. That action was prompted by results of fatigue testing which revealed that the cross bolt and nut in the forward pintle pin of the MLG were damaged due to fatigue cracking. The requirements of that AD are intended to prevent such fatigue cracking, which could result in collapse of the MLG.

On May 16, 2000, the FAA issued AD 2000-10-16, amendment 39-11740 (65 FR 34059, May 26, 2000), to require repetitive inspections for discrepancies of the lock bolt for the pintle pin on the MLG; follow-on corrective actions, if necessary; and retorquing of the forward pintle pin lock bolt for certain airplanes. That AD also provides for an optional terminating action for the requirements of the AD. That action was prompted by issuance of mandatory continuing airworthiness information by a foreign civil airworthiness authority. The requirements of that AD are intended to detect and correct a rotated, damaged, or missing lock bolt, which could result in disengagement of the pintle pin from the pintle fitting bearing, and consequent collapse of the MLG during landing. In the “Comment Received” section of that AD, the FAA stated that it may consider further rulemaking if a determination is made at a later date that the terminating modification should be mandated.

Actions Since Issuance of Previous Rules

Since the issuance of AD 96-10-18 and AD 2000-10-16, the Direction Generale de l'Aviation Civile (DGAC), which is the airworthiness authority for France, has issued French airworthiness directive 2000-428-153(B), Revision 1, dated November 29, 2000, to continue to require the repetitive inspections of the lock bolt for the pintle pin on the MLG and follow-on corrective actions, and to mandate the optional terminating action modification identified in AD 2000-10-16.

Explanation of Relevant Service Information

Airbus has issued Service Bulletin A320-32-1213, Revision 02, dated February 9, 2001, which describes procedures for modification of the pintle pin attachment of both the left and right MLG to incorporate a dual lock bolt configuration. Modification includes a detailed visual inspection of the pintle pin lock bolts to ensure that the bolts are in proper position and are not broken, and repair if necessary; and removal and installation of the lock bolts. Accomplishment of the actions specified in the service bulletin is intended to adequately address the identified unsafe condition. The DGAC classified this service bulletin as mandatory and issued French airworthiness directive 2000-428-153(B), Revision 1, dated November 29, 2000, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2000-10-16, to continue to require repetitive inspections of the lock bolt for the pintle pin on the MLG, follow-on corrective actions if necessary, and retorquing of the forward pintle pin lock bolt for certain airplanes. This proposed AD also would add a requirement for accomplishment of the terminating action modification in accordance with the service bulletin described previously, which would constitute terminating action for the repetitive inspection requirements of the AD. In addition, the proposed AD would supersede AD 96-10-18, to cancel the requirements of that AD.

Differences Between Proposed Rule and Foreign Airworthiness Directive

The proposed AD would differ from the parallel French airworthiness directive in that it would not require accomplishment of Airbus Service Bulletin A320-32-1119, followed by repetitive inspections, as an interim action alternative to Airbus Service Bulletin A320-32-1213, unless it is specifically required to correct a discrepancy found during inspection.

Cost Impact

There are approximately 341 airplanes of U.S. registry that would be affected by this proposed AD.

The actions that are currently required by AD 2000-10-16 take approximately 2 work hours per airplane to accomplish, at an average labor rate of $60 per work hour. Based on these figures, the cost impact of the currently required actions on U.S. operators is estimated to be $120 per airplane, per inspection cycle.

The new action that is proposed in this AD action would take approximately 3 work hours per airplane to accomplish, at an average labor rate of $60 per work hour. Required parts would cost approximately $540 per airplane. Based on these figures, the cost impact of the proposed new requirements of this AD on U.S. operators is estimated to be $245,520, or $720 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendments 39-11740 (65 FR 34059, May 26, 2000), and 39-9625 (61 FR 24690, May 16, 1996) and by adding a new airworthiness directive (AD), to read as follows:

Airbus Industrie: Docket 2000-NM-338-AD. Supersedes AD 2000-10-16, Amendment 39-11740, and AD 96-10-18, Amendment 39-9625.

Applicability: Model A319, A320, and A321 series airplanes, certificated in any category, except those on which Airbus Service Bulletin A320-32-1213, dated March 21, 2000 (reference Airbus Modification 28903 or 30044) has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent a rotated, damaged, or missing lock bolt, which could result in disengagement of the pintle pin from the pintle fitting bearing, and consequent collapse of the main landing gear (MLG) during landing, accomplish the following:

Note 2: Paragraphs (a) and (b) of this AD repeat the actions that were previously mandated by AD 2000-10-16. The intent of including these paragraphs is to ensure that the currently-required repetitive inspections continue to be accomplished until the terminating modifications are installed.

Restatement of Requirements of AD 2000-10-16

Inspection

(a) Perform a detailed visual inspection to detect discrepancies (rotation, damage, and absence) of the lock bolt for the pintle pin on the MLG, in accordance with Airbus All Operator Telex (AOT) 32-17, Revision 01, dated November 6, 1997; Airbus Service Bulletin A320-32-1187, dated June 17, 1998; or Airbus Service Bulletin A320-32-1187, Revision 01, dated February 17, 1999; at the latest of the times specified in paragraphs (a)(1), (a)(2), and (a)(3) of this AD. If any discrepancy is detected, prior to further flight, perform corrective actions, as applicable, in accordance with the AOT or service bulletin. Repeat the inspection thereafter at intervals not to exceed 1,000 flight cycles or 15 months, whichever occurs first, unless the terminating action of paragraph (c) of this AD is accomplished. After June 30, 2000 (the effective date of AD 2000-10-16, amendment 39-11740), only Airbus Service Bulletin A320-32-1187, Revision 01, dated February 17, 1999, shall be used for compliance with this paragraph.

(1) Within 30 months since the airplane's date of manufacture or prior to the accumulation of 2,000 total flight cycles, whichever occurs first.

(2) Within 15 months or 1,000 flight cycles after the last gear replacement or accomplishment of Airbus Service Bulletin A320-32-1119, dated June 13, 1994, whichever occurs first.

(3) Within 500 flight cycles after August 12, 1998 (the effective date of AD 98-14-11, amendment 39-10644).

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

One-time Follow-on Actions

(b) For airplanes on which the actions described in paragraph 2.B.(2)(c) of Airbus Service Bulletin A320-32-1187, Revision 01, dated February 17, 1999, have not been accomplished: At the time of the initial inspection or the next repetitive inspection required by paragraph (a) of this AD, perform the applicable one-time follow-on actions (including retorquing the forward pintle pin lock bolt and applying sealant to the head of the lock bolt), in accordance with section 2.B.(2)(c) of the Accomplishment Instructions of Airbus Service Bulletin A320-32-1187, Revision 01, dated February 17, 1999.

New Actions Required by This AD

Terminating Modification

(c) Within 5 years from the effective date of this AD, or at the next MLG overhaul, whichever occurs later, modify the forward pintle pin cross bolt on both the left and right MLG (including a detailed visual inspection to ensure that the bolts are in proper position and are not broken, and repair if necessary; and removal and installation of the lock bolts), in accordance with Airbus Service Bulletin A320-32-1213, Revision 02, dated February 9, 2001. This modification constitutes terminating action for the requirements of this AD.

Note 4: Accomplishment of the actions required in paragraph (c) of this AD, prior to the effective date of this AD, in accordance with Airbus Service Bulletin A320-32-1213, dated March 21, 2000, or Revision 01, dated November 15, 2000, is considered acceptable for compliance with paragraph (c) of this AD.

Alternative Methods of Compliance

(d)(1) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

(2) Alternative methods of compliance, approved previously in accordance with AD 2000-10-16, amendment 39-11740, are approved as alternative methods of compliance with this AD.

Note 5: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Note 6: The subject of this AD is addressed in French airworthiness directive 2000-428-153(B), Revision 1, dated November 29, 2000.

Issued in Renton, Washington, on November 15, 2001.
Kalene C. Yanamura,
Acting Manager, Transport Airplane Directorate, Aircraft Certification Service.

[FR Doc. 01-29193 Filed 11-21-01; 8:45 am]

BILLING CODE 4910-13-U